DEPARTMENT OF DEFENSE

Office of the Secretary

[Docket ID: DoD-2013-OS-0062]

Privacy Act of 1974; System of Records

AGENCY: Defense Logistics Agency, DoD.

ACTION: Notice to add a new System of Records.

SUMMARY: The Defense Logistics Agency proposes to add a new system of records in its inventory of record systems subject to the Privacy Act of 1974 (5 U.S.C. 552a), as amended. This notice adds S890.11, Defense Agencies Initiative (DAI) Civilian Time and Labor Records.

DATES: This proposed action will be effective on December 5, 2013 unless comments are received which result in a contrary determination. Comments will be accepted on or before December 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Kathy Dixon, DLA FOIA/Privacy Act Office, Headquarters, Defense Logistics Agency, ATTN: DGA, 8725 John J. Kingman Road, Suite 1644, Fort Belvoir, VA 22060-6221, or by phone at (703) 767-6183.

SUPPLEMENTARY INFORMATION: The Defense Logistics Agency notice for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 21, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 30, 2013.
Aaron Siegel,
Alternate OSD Federal Register Liaison Officer, Department of Defense.

S890.11

System name:

Defense Agencies Initiative (DAI) Civilian Time and Labor Records.

System location:

Defense Information Systems Agency, Defense Enterprise Computing Center Ogden, 7879 Wardleigh Road, Hill AFB, UT 84056-5997.

Defense Information Systems Agency, Defense Enterprise Computing Center Columbus, 3990 E Broad Street, Columbus, OH 43213-1152.

Categories of individuals covered by the system:

Department of Defense civilian employees within the Defense Technical Information Center; the Office of the Under Secretary of Defense (Comptroller); the Defense Media Activity; the Missile Defense Agency; the Uniform Services University of Health Sciences; the Defense Threat Reduction Agency; the TRICARE Management Agency; the Defense Technology Security Administration; the Defense Security Service; the Defense Advanced Research Projects Agency; the Office of Economic Adjustment; the Defense Prisoner of War/Missing Personnel Office; the Office of the Defense Chief Financial Officer; the Defense Information Systems Agency; the Defense Acquisition University; the National Defense University; the Defense Finance and Accounting Service; the Defense Human Resources Activity; the Department of Defense Inspector General; the Department of Defense Education Activity; the Defense Contract Audit Agency; the Defense Contract Management Agency; the Defense Commissary Agency; the Defense Security Cooperation Agency; the Washington Headquarters Service; the Pentagon Force Protection Agency; the Defense Legal Services Agency; the Defense Testing Resources Management Center; the Director, Operational Test and Evaluation; the Center for Countermeasures; the Defense Microelectronic Agency and the Business Transformation Agency (Disestablished).

Categories of records in the system:

Records maintained include individual's name, Social Security Number (SSN), DoD ID Number, citizenship; pay; employee's status, position, accounting codes, organization and office location, email address, rate, leave balances; work and shift schedule, project and workload records, regular and overtime work hours and leave hours, time and attendance records (timesheet), and information on telework, temporary duty and special assignments.

Authority for maintenance of the system:

5 U.S.C. Chapter 61, Hours of Work; Chapter 53, Pay Rates and Systems; Chapter 57, Transportation, and Subsistence; and Chapter 63, Leave; 5 U.S.C. 301, Departmental Regulations; 10 U.S.C. 136, Under Secretary of Defense for Personnel and Readiness; 31 U.S.C., Chapter 35, Accounting and Collection; and E.O. 9397 (SSN), as amended.

Purpose(s):

Records are used to prepare time and attendance records, to record employee pay rates and status, including overtime, the use of leave, and work absences; to track workload, project activity for analysis and reporting purposes; for statistical reporting on leave and overtime use/usage patterns, number of employees teleworking, and to answer employee queries on leave, overtime, and pay.

Information from this system of records is provided to the Defense Finance and Accounting Service for issuing payroll.

Routine uses of records maintained in the system, including categories of users and the purposes of such uses:

In addition to those disclosures generally permitted under 5 U.S.C. 552a(b) of the Privacy Act of 1974, as amended, records contained herein may specifically be disclosed outside the DoD as a routine use pursuant to 5 U.S.C. 552a(b)(3) as follows:

The DoD Blanket Routine Uses may apply to this system of records.

Policies and practices for storing, retrieving, accessing, retaining, and disposing of records in the system:

Storage:

Records may be stored on paper and on electronic storage media.

Retrievability:

Records are retrieved by employee's name and\or DoD ID Number.

Safeguards:

Records are maintained in a controlled facility. Physical entry is restricted by the use of locks, guards, and is accessible only to authorized personnel. Access to computerized data is restricted by Common Access Cards. Access to records is limited to person(s) responsible for servicing the records in the performance of their official duties and who are properly screened and cleared for need-to-know. All individuals granted access to this system of records are required to have taken Information Assurance and Privacy Act training.

Retention and disposal:

Initialed Leave Application Files (LAF) are destroyed at end of the following pay period, un-initialed LAFs are destroyed after GAO audit or when 3 years old, whichever is sooner. Time and Labor Source Records and Input Records are destroyed after GAO audit or when 6 years old, whichever is sooner. Leave Records are destroyed when 3 years old. Payroll system reports and data used for personnel management purposes are destroyed when 2 years old. Project and workload records will be destroyed after 6 years, 3 months or when no longer needed.

System manager(s) and address:

Program Manager, Defense Agencies Initiative (DAI) Program Management Office, 2221 South Clark Street, Arlington, VA 22202-3745. Write to the above address for a list of system managers at the DAI using activities.

Notification procedure:

Individuals seeking to determine whether information about themselves is contained in this system of records should address written inquiries to the DLA FOIA/Privacy Act Office, Headquarters, Defense Logistics Agency, ATTN: DGA, 8725 John J. Kingman Road, Suite 1644, Fort Belvoir, VA 22060-6221.

Inquiry should contain the record subject's full name, DoD ID Number and return mailing address.

Record access procedures:

Individuals seeking access to information about themselves contained in this system of records should address written inquiries to the DLA FOIA/Privacy Act Office, Headquarters, Defense Logistics Agency, ATTN: DGA, 8725 John J. Kingman Road, Suite 1644, Fort Belvoir, VA 22060-6221.

Inquiry should contain the record subject's full name, DoD ID Number and return mailing address.

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

Record subject, supervisors, timekeepers, leave slips and automated payroll systems, such as, the Defense Cash Accountability System.

Exemptions claimed for the system:

None.

[FR Doc. 2013-26320 Filed 11-1-13; 8:45 am]

BILLING CODE 5001-06-P